DEPARTMENT OF HOMELAND SECURITY

Coast Guard

33 CFR Part 1

[Docket No. USCG-2008-1259]

RIN 1625-AB32

Assessment Framework and Organizational Restatement Regarding Preemption for Certain Regulations Issued by the Coast Guard

AGENCY: Coast Guard, DHS.

ACTION: Proposed rule; extension of comment period.

SUMMARY: The Coast Guard is extending the comment period for the notice of proposed rulemaking (NPRM) entitled “Assessment Framework and Organizational Restatement Regarding Preemption for Certain Regulations Issued by the Coast Guard,” which published on December 27, 2013. For reasons discussed in this notice, the comment period is extended until May 26, 2014.

DATES: The comment period for the proposed rule published on December 27, 2013 (78 FR 79242), is extended. Comments and related material must be submitted to our online docket via http://www.regulations.gov on or before May 26, 2014, or reach the Docket Management Facility by that date.

ADDRESSES: You may submit comments, identified by Coast Guard docket number USCG-2008-1259, using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these methods. For instructions on submitting comments, see the “Public Participation and Request for Comments” portion of the SUPPLEMENTARY INFORMATION section below.

FOR FURTHER INFORMATION CONTACT: If you have questions on this notice, call or email Lieutenant Commander Lineka Quijano, Office of Maritime and International Law, Coast Guard, telephone 202-372-3865, email Lineka.N.Quijano@uscg.mil. If you have questions on viewing or submitting material to the docket, call Cheryl Collins, Program Manager, Docket Operations, telephone 202-366-9826.

SUPPLEMENTARY INFORMATION:

I. Public Participation and Request for Comments

We encourage you to participate in this rulemaking by submitting comments and related materials. All comments received will be posted, without change, to http://www.regulations.gov and will include any personal information you have provided.

A. Submitting Comments

If you submit a comment, please include the docket number for this rulemaking (USCG-2008-1259), indicate the specific section of this document to which each comment applies, and provide the reason for each suggestion or recommendation. You may submit your comments and material online, or by fax, mail, or hand delivery, but please use only one of these means. We recommend that you include your name and a mailing address, an email address, or a phone number in the body of your document so that we can contact you if we have questions regarding your submission.

To submit your comment online, go to http://www.regulations.gov, search for the docket number USCG-2008-1259, and then click on the “comment now” link. If you submit your comments by mail or hand delivery, submit them in an unbound format, no larger than 8½ by 11 inches, suitable for copying and electronic filing. If you submit them by mail and would like to know that they reached the Facility, please enclose a stamped, self-addressed postcard or envelope.

We will consider all comments and material received during the comment period. We may change this proposed rule in view of them.

B. Viewing Comments and Documents

To view comments, as well as documents mentioned in this preamble as being available in the docket, go to http://www.regulations.gov, search for the docket number USCG-2008-1259, and then click “Open Docket Folder.” If you do not have access to the Internet, you may view the docket online by visiting the Docket Management Facility in Room W12-140 on the ground floor of the DOT West Building, 1200 New Jersey Avenue SE., Washington, DC 20590, between 9 a.m. and 5 p.m., Monday through Friday, except Federal holidays. We have an agreement with the Department of Transportation to use the Docket Management Facility.

C. Privacy Act

Anyone can search the electronic form of all comments received into any of our dockets by the name of the individual submitting the comment (or signing the comment, if submitted on behalf of an association, business, labor union, etc.). You may review a Privacy Act notice regarding our public dockets in the January 17, 2008, issue of the Federal Register (73 FR 3316).

D. Public Meeting

We intend to hold a public meeting on this topic. We will announce the time and place of that meeting in a later notice in the Federal Register.

II. Reasons for Extension

On December 27, 2013, the Coast Guard published its NPRM, “Assessment Framework and Organizational Restatement Regarding Preemption for Certain Regulations Issued by the Coast Guard” (78 FR 79242). The NPRM provided for a comment period of 90 days, which is now extended by an additional 60 days for a total comment period length of 150 days. This notice of extension is issued under authority of 5 U.S.C. 552(a).

The NPRM discusses existing law on preemption, and identifies the laws and regulations that have preemptive effect. It clarifies (but does not alter) the Coast Guard's application of statutes and case law regarding the preemptive effect of its regulations. It also sets forth a process the Coast Guard will use in future rulemakings for evaluating the preemptive impact of those future regulations.

The Coast Guard has received requests for extension of the comment period. Some of these requests are from members of the public and of State agencies who are concerned that the proposed rule would interfere with existing State permitting practices, or would require a thorough review of State regulations to find out what State regulations may be preempted by the proposed rule. The Coast Guard does not believe the proposed rule should raise such concerns. As stated here and throughout the NPRM, the proposed rule merely restates the current preemptive impact of our regulations as it exists today as a result of statute and court decisions. The proposed rule does not make any new determinations or assertions, but only summarizes in one location existing law and the Coast Guard's statement of preemptive impact. The proposed rule does not alter in any way the rights of States. Likewise, it does not serve to prospectively give preemptive impact to any future regulatory effort. The proposed rule does not change the law as it exists today.

However, we are interested in better understanding the concerns expressed, and we want to allow ample time for the public to consider the proposed rule. Accordingly, we have extended the comment period. We encourage all members of the public, and especially States, to send comments explaining what, if any, impact the proposed rule could have. Please be as specific as possible in explaining how the proposed rule would affect you.

Dated: March 26, 2014.
F.J. Kenney,
Rear Admiral, U.S. Coast Guard, Judge Advocate General.

[FR Doc. 2014-07080 Filed 3-27-14; 8:45 am]

BILLING CODE 9110-04-P